DEPARTMENT OF LABOR

Bureau of International Labor Affairs; National Advisory Committee for the North American Agreement on Labor Cooperation, Notice of Renewal

In accordance with the provisions of the Federal Advisory Committee Act and Article 17 of the North American Agreement on Labor Corporation, the Secretary of Labor has determined that the renewal of the charter of the National Advisory Committee on the North American Agreement for Labor Cooperation (the Advisory Committee) is in the public interest. The current charter expired on November 10, 2001.

The Advisory Committee provides advice to the Department of Labor on matters pertaining to the administration and implementation of the North American Agreement on Labor Cooperation, the labor supplemental accord to the North American Free Trade Agreement (NAFTA). These include but are not limited to the following: (1) Improving working conditions and living standards in each signatory's territory, (2) encouraging cooperation to promote innovation and rising levels of productivity and quality, (3) encouraging the publication and exchange of information to enhance the understanding of laws and institutions governing labor in each signatory's territory, and (4) promoting compliance with, and effective enforcement by each signatory of, its labor laws.

The Advisory Committee will meet at least two times a year and more often as necessary. It is comprised of twelve members, four representing the labor community, four representing the business community, two representing academia and two representing the public. None of these members shall be deemed to be employees of the United States.

The Advisory Committee reports to the Secretary of the National Administration Office. It functions solely as an advisory body and in compliance with the provisions of the Federal Advisory Committee Act. Its charter will be filed under the Act fifteen (15) days from the date of this publication.

Interested persons are invited to submit comments regarding the renewal of the charter of the National Advisory Committee for the North American Agreement on Labor Cooperation. Such comments should be addressed to Lewis Karesh, Deputy Secretary, U.S. National Administrative Office, Bureau of International Labor Affairs, U.S. Department of Labor, 200 Constitution Avenue, NW., Room S-5205, Washington, DC 20210, telephone (202) 693-4900.

Signed at Washington DC, the 31st day of May, 2002.
Elaine L. Chao,
Secretary of Labor.

[FR Doc. 02-14195 Filed 6-5-02; 8:45 am]

BILLING CODE 4510-28-M